DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date of Meeting: May 23, 2001.

Time of Meeting: 0830-1545, May 23, 2001.

Place: Battle Lab, Ft. Gordon GA

Agenda: The Army Science Board's (ASB) panel will conduct an Ad Hoc Study on “Adapting Future Wireless Communication” to examine potential future commercial wireless capabilities and recommend which capabilities may have applicability for the Objective Force. The meetings will be open to the public. Any interested person may attend, appear before, or file statements with the committee at the time and in the manner permitted by the committee. For further information, please contact Mr. Jeff Ozimek, Army Science Board Staff Assistant, 732-532-5496 or Ms. Lisa Calabrese, Army Science Board Staff Assistant, 732-427-4646.

Wayne Joyner,
Executive Assistant, Army Science Board.

[FR Doc. 01-12202 Filed 5-14-01; 8:45 am]

BILLING CODE 3710-08-M